DEPARTMENT OF ENERGY

Federal Energy Regulatory Commission

[Docket No. EC04-31-000, et al.]

SCS Energy, LLC, et al.; Electric Rate and Corporate Filings

December 3, 2003.

The following filings have been made with the Commission. The filings are listed in ascending order within each docket classification.

1. SCS Energy, LLC; Astoria Energy, LLC

[Docket Nos. EC04-31-000 and ER01-3103-003]

Take notice that on November 26, 2003, SCS Energy, LLC (SCS) and AE Investor, LLC, filed with the Federal Energy Regulatory Commission an application pursuant to Section 203 of the Federal Power Act for authorization to request approval of an indirect change in control of Astoria Energy, LLC.

Comment Date: December 17, 2003.

2. Mirant Delta, LLC; Mirant Potrero, LLC

[Docket No. ER04-227-000]

Take notice that, on November 25, 2003, Mirant Delta, LLC (Mirant Delta) and Mirant Potrero, LLC (Mirant Potrero) tendered for filing certain revised tariff sheets to the Reliability Must-Run Service Agreements between Mirant Delta, Mirant Potrero, and the California Independent System Operator Corporation. The revisions include, inter alia, changes to the: (1) Air Emissions Limitations; (2) Contract Service Limits, (3) Hourly Availability Charges and Penalty Rates, (4) Capital Item Charges and Penalty Rates for the RMR; (5) Prepaid Start-up Costs, and (6) projected outage information for the generating units owned by Mirant Delta and Mirant Potrero, for the year beginning January 1, 2004.

Comment Date: December 16, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00515 Filed 12-10-03; 8:45 am]

BILLING CODE 6717-01-P